DEPARTMENT OF THE INTERIOR

Bureau of Indian Affairs

[K00621 1314 R3B30]

Notice of Cancellation of the Environmental Impact Statement for the Proposed Shu'luuk Wind Project on the Campo Indian Reservation, San Diego County, CA

AGENCY: Bureau of Indian Affairs, Interior.

ACTION: Notice.

SUMMARY: This notice announces that the Bureau of Indian Affairs (BIA) as lead agency, in cooperation with the Campo Band of Mission Indians (Campo Band), Campo Environmental Protection Agency (CEPA) and the U.S. Environmental Protection Agency (EPA), intends to cancel all work on the environmental impact statement (EIS) for the Proposed Shu'luuk Wind Project on the Campo Indian Reservation, San Diego County, CA.

FOR FURTHER INFORMATION CONTACT: Lenore Lamb, (951) 276-6624, extension 254.

SUPPLEMENTARY INFORMATION: The BIA is canceling work on the EIS because the Campo Band of Mission Indians, by tribal letter, informed the BIA that the Tribe terminated the lease with Invenergy Wind California, LLC and San Diego Gas & Electric Company to develop the Shu'luuk Wind Project. There is no Federal action of lease approval for BIA consideration.

The Notice of Intent to prepare the EIS, which included a description of the proposed action, was published in the Federal Register on May 20, 2011 (76 FR 29261). The Notice of Availability of the Draft EIS was published in the Federal Register on January 11, 2013 (78 FR 2423).

Authority

This notice is published pursuant to the Council of Environmental Quality Regulations (40 CFR part 1500) and the Department of the Interior Regulations (43 CFR part 46), implementing the procedural requirements of the National Environmental Policy Act of 1969, as amended (42 U.S.C. 4371 et seq.), and is in the exercise of authority delegated to the Assistant Secretary—Indian Affairs by 209 DM 8.

Dated: February 4, 2014.
Kevin K. Washburn,
Assistant Secretary—Indian Affairs.

[FR Doc. 2014-03615 Filed 2-19-14; 8:45 am]

BILLING CODE 4310-W7-P